ENVIRONMENTAL PROTECTION AGENCY

40 CFR Part 300

[FRL-7443-6]

National Oil and Hazardous Substances Pollution Contingency Plan; National Priorities List

AGENCY: Environmental Protection Agency (EPA).

ACTION: Notice of intent for partial deletion of the Cecil Field Naval Air Station (site) from the National Priorities List (NPL).

SUMMARY: The Environmental Protection Agency, Region 4, announces its intent to delete portions of the Cecil Field Naval Air Station Superfund Site (the “Site”) (EPA ID# FL 5170022474) from the National Priorities List (NPL) and requests public comment on this action. The NPL is codified as appendix B to the National Oil and Hazardous Substances Pollution Contingency Plan (NCP), 40 CFR part 300, which EPA promulgated pursuant to section 105 of the Comprehensive Environmental Response, Compensation, and Liability Act (CERCLA), as amended, 42 U.S.C. 9605. The EPA has determined, with the concurrence of the State of Florida through its Department of Environmental Protection, that the parcels proposed for deletion under this action do not pose a significant threat to public health or the environment, as defined by CERCLA, and therefore, further remedial measures pursuant to CERCLA are not appropriate for these parcels. EPA proposes deletion of these parcels in accordance with 40 CFR 300.425(e) and the Notice of Policy Change: Partial Deletion of Sites on the National Priorities List published in the Federal Register on November 1, 1995.

The remaining parcels comprising the Cecil Field Naval Air Station Superfund Site will remain on the NPL. Response actions are either underway at these parcels or the parcels do not require any further response action other than operation and maintenance activities and enforcement.

DATES: EPA will accept comments concerning this proposal to delete specified parcels from the Site until March 31, 2003.

ADDRESSES: Comments may be submitted to Deborah A. Vaughn-Wright, Remedial Project Manager, Federal Facilities Branch, Waste Management Division, U.S. Environmental Protection Agency, 61 Forsyth Street, Atlanta, Georgia 30303, (404) 562-8539, fax (404) 562-8518, e-mail vaughn-wright.debbie@epa.gov.

Comprehensive information and deletion docket for this site is available through the public docket which is available for viewing at the Site Information repositories at the following locations:

(1) U.S. EPA Region 4, Library, 61 Forsyth Street, Atlanta, GA 30303, (404) 562-8190. Hours: Monday thru Friday, 8 a.m. to 4 p.m.; and

(2) Building 907, 13357 Lake Newman Street, Cecil Commerce Center, Jacksonville, Florida 32252, Phone: (904) 573-0336.

FOR FURTHER INFORMATION CONTACT: Deborah A. Vaughn-Wright, Remedial Project Manager, U.S. Environmental Protection Agency, 61 Forsyth Street, Atlanta, Georgia 30303, (404) 562-8539, Fax (404) 562-8518, e-mail vaughn-wright.debbie@epa.gov.

SUPPLEMENTARY INFORMATION:

Table of Contents

I. Introduction

II. NPL Deletion Criteria

III. Deletion Procedures

IV. Basis of Intended Partial Site Deletion

V. Deletion Action

I. Introduction

The U.S. Environmental Protection Agency (EPA) Region 4 announces its intent to delete approximately 16,496.14 acres of land from the Cecil Field Naval Air Station Superfund Site, Jacksonville, Duval and Clay Counties, Florida from the National Priorities List (NPL). The NPL constitutes appendix B to the National Oil and Hazardous Substances Pollution Contingency Plan (NCP), 40 CFR part 300, which EPA promulgated pursuant to section 105 of the Comprehensive Environmental Response, Compensation, and Liability Act (CERCLA) of 1980, as amended, 42 U.S.C. 9605.

The NPL is a list of facilities which EPA determined may pose a significant threat to public health, welfare, or the environment. 40 CFR 300.425(e) authorizes deletion of facilities, or portions of facilities, from the NPL provided that facility meets certain criteria. Deletion from the NPL does not necessarily preclude further remedial action. If a significant release occurs at a facility deleted from the NPL, that facility is restored to the NPL without application of the Hazard Ranking System. Non-federal facilities deleted from the NPL are eligible for Fund-financed remedial actions should future conditions warrant such action. While federal facilities are not eligible for Fund-financed remedial action, all federal facilities, whether listed on the NPL or not, have a continuing statutory duty to conduct further remediation, if required, even after the federal property is transferred to non-federal owners. Where a release attributable to federal facility's historical activities is discovered after a property transfer, CERCLA section 120(h)(3)(A)(i) requires the federal entity to conduct further remediation if needed for protection of human health and the environment.

An environmental assessment was conducted at the facility on the parcels proposed for transfer. All media were sampled. Results of this sampling were compiled in Remedial Investigations reports which were used to conduct a Risk Assessments. Feasibility Studies were generated which evaluated potential remedies required to address the contamination. The remedies were summarized in a public notice soliciting comments on the remedies. All public comments received during the public comment period were considered by the Navy and EPA before a final remedy was selected. Several parcels did not require a remedial action to be protective of human health and the environment.

The parcels proposed for deletion are described in more detail later in this document. EPA proposes deleting these parcels from the NPL because no further CERCLA response is appropriate. The remaining portions of property comprising the Cecil Field Naval Air Station Superfund Site will remain on the NPL. This notice will be published in the Federal Register to solicit public comment on the proposed partial deletion. The public comment period is thirty (30) days beginning on the date of publication.

Section II of this action explains the criteria for the partial deletion of sites from the NPL. Section III discusses the procedures that EPA is using for this action. Section IV discusses the history of the Cecil Field Naval Air Station Site and explains how the portions of the Site proposed for deletion meet deletion criteria. Section V states EPA's action to delete the portions of the site from the NPL unless dissenting comments are received during the comment period.

II. NPL Deletion Criteria

Section 300.425(e) of the NCP provides that sites may be deleted from, or recategorized on, the NPL where no further response is appropriate. In making a determination to delete a release from the NPL, EPA shall consider, in consultation with the state, whether any of the following criteria have been met:

(i) Responsible parties or other persons have implemented all appropriate response actions required; or

(ii) All appropriate Fund-financed response under CERCLA has been implemented, and no further response action by responsible parties is appropriate; or

(iii) The Remedial Investigation has shown that the release poses no significant threat to public health or the environment and, therefore, taking of remedial measures is not appropriate.

As explained below, portions of the Site meet the NCP's deletion criteria listed above. Therefore, a partial deletion is being proposed.

III. Deletion Procedures

The following procedures were used for the intended partial deletion of portions from the Site:

(1) All appropriate responses under CERCLA have been implemented and no further action by EPA is appropriate for the identified areas; (2) The State of Florida concurred with the proposed deletion decision via letter dated July 3, 2002; (3) Simultaneous with this notice, a similar notice of Intent for Partial Deletion was published in a major local newspaper with general circulation in and around the Site and distributed to appropriate federal, state, and local officials and other interested parties announcing a thirty (30) day comment period starting on the date of publication in the Federal Register and a major local newspaper; and (4) All relevant documents have been made available for public review in the local Site information repositories.

The public is asked to comment on the proposed partial deletion within thirty (30) days of the date of this document. EPA will evaluate all comments received during this period before issuing a final decision. If appropriate, EPA will prepare a Responsiveness Summary, responding to each significant comment submitted during the public comment period. The Responsiveness Summary will be available for public viewing at the information repositories listed above. If EPA determines that the proposed partial deletion is appropriate, EPA will publish a Final Notice of Partial Deletion in the Federal Register. Actual deletion of the proposed parcels does not occur until the Final Notice of Partial Deletion is published in the Federal Register. As stated in 40 CFR 300.425, a site, or portions of a site, deleted from the NPL remain eligible for future response actions if conditions warrant.

IV. Basis for Intended Partial Site Deletion

The following site summary provides the Agency's rational for the proposed partial deletion. It also includes information demonstrating satisfaction of the deletion criteria specified under 40 CFR 300.425(e).

Site Background and History:

Cecil Field Naval Air Station is located 14-miles west of Jacksonville, Florida in Duval and Clay Counties. The entire Site encompasses approximately 17,200 acres. The Site operated as Naval Air Station Cecil Field from 1941 until 1999 when the base was closed as a result of the Defense Base Realignment and Closure (BRAC) Act of 1990. During that period the base provided facilities, services, and material support for the operation and maintenance of naval weapons, aircraft and other units of the operation forces as designated by the Chief of Naval Operations. Some of the tasks required to accomplish this mission include operation of fuel storage facilities and performance of aircraft maintenance. Maintenance activities at NAS Cecil Field over the years generated a variety of waste materials including municipal solid waste, municipal wastewater treatment plant sludge, industrial wastes including waste oils, solvents, paints and spilled fuels, and waste pesticides. Contaminants of concern include pesticides, chlorinated solvents, waste fuels and metals.

Cecil Field Naval Air Station was listed on the NPL in 1989. At that time the entire base was included in the listing, fence line to fence line. The Department of the Navy, State of Florida and the U.S. Environmental Protection Agency approved a Federal Facilities Agreement in October 1990, which outlined procedures for identifying and addressing contamination at the Site. The entirety of Cecil Field Naval Air Station was included on the NPL listing. Upon listing, the facility began identifying sites where activities involving hazardous substances may have occurred. The sites requiring further investigation were grouped into Operable Units (OU). Twelve operable units (OU) have been identified at Cecil Field many with subunits denoted as “sites.” The numbering of sites within an OU is not necessarily consecutive because the sites were identified prior to the OU grouping. Operable Units identified at Cecil Field are: OU 1, Site 1—Old Landfill and Site 2—Recent Landfill; OU 2, Site 5—Oil Disposal Area Northwest and Site 17—Oil and Sludge Disposal Pit Southwest; OU 3, Site 7—Old Firefighter Training Area and Site 8—Boresite Range/Hazardous Waste Storage/Firefighting Area; OU 4, Site 10—Rubble Disposal Area; OU 5, Site 14—Blue 5 Ordnance Disposal Area, Site 15—Blue 10 Ordnance Disposal Area, Site 49—Recent Skeet Range; OU 6, Site 11—Golf Course Pesticide Disposal Area; OU 7, Site 16—AIMD Seepage Pit/NDI Holding Tank; OU 8, Site 3—Oil and Sludge Disposal Pit; OU 9, Site 36—Control Tower TCE Plume, Site 37—Hangars 13 and 14 DCE Plume, Site 57—Building 824A/Day Tank 1 Area, and Site 58—Building 312 Area; OU 10, Site 21—Golf Course Maintenance Area and Site 25—Former Transformer Storage Area; OU 11, Site 45—Former Steam Generating Plant; OU 12, Site 32—Former DRMO Area, Site 42—Former Boiler House/Steam Plant, Site 44—DRMO/Lake Fretwell Drainage Ditch; and the Old Golf Course.

This document proposes deletion of some OUs in their entirety or only certain sites within an OU. Remedial Investigations are complete for operable units (OU) 1 (sites 1 and 2), 2 (sites 5 and 17), 3 (sites 7 and 8), 4 (site 10), 5 (site 14), 6 (site 11), 7 (site 16), 8 (site 3), and 9 (sites 36/37). Records of Decisions (ROD) have been finalized for all of these operable units as well. Remedial Investigations/Feasibility Studies are still under way for OU 5 (site 15 and 49), 9 (sites 56 and 57), 10 (sites 21 and 25), and 11 (site 45). An Engineering Evaluation and Cost Analysis has been completed for OU 5 (site 49) and OU 12 (site 32). Removal actions have been completed for OU 12 (sites 42, 44, and the old golf course) which resulted in no further action decisions.

As a result of the BRAC designation in July 1993, an Environmental Baseline Survey (EBS), which identifies parcels of land for sale, lease or needing further investigation, was completed in November 1994. The 1994 EBS also provided descriptions of the environmental condition of property for buildings and open areas on the base. Environmental conditions of property can be divided into seven types: BRAC 1 or White—areas which do not require further investigation because no release or disposal of hazardous substances or petroleum products have occurred (including migration of these substances from an adjacent area); BRAC 2 or Blue—areas where only a release or disposal of petroleum products have occurred; BRAC 3 or light green—areas where a release, disposal and/or migration of hazardous substances have occurred, but at concentrations that do not require a removal or remedial action; BRAC 4 or dark green—areas where release, disposal, and/or migration of hazardous substances have occurred, and all remedial actions necessary to protect human health and the environment have taken place; BRAC 5 or yellow—areas where release, disposal, and/or migration of hazardous substances have occurred, and removal or remedial actions are underway, but all required actions have not yet been taken; BRAC 6 or red—areas where release, disposal, and/or migration of hazardous substances have occurred, but required actions have not been implemented; or BRAC 7 or gray areas that are not evaluated or require additional evaluation. The EPA concurred on 270 buildings/parcels receiving the uncontaminated designation per CERCLA section 120(h)(4)(A) in a letter dated June 20, 1995. Between 1995 and 2001, EPA has concurred on another 125 buildings/parcels as being uncontaminated following further evaluation. EPA has also evaluated another 250 buildings/parcels for BRAC and has approved their designation as BRAC 2, BRAC 3, or BRAC 4. These areas were evaluated in accordance to section 120(h) of CERCLA as amended by the Community Environmental Response Facilitation Act (CERFA) as well as the NCP. Remedial activity for areas where there has been a release or disposal of petroleum products has been deferred to the State of Florida's Petroleum Program. To date approximately 95% of the property has been transferred to the Jacksonville Port Authority and the City of Jacksonville for redevelopment and includes the property being proposed for partial deletion.

The portions of Cecil Field to be deleted from the NPL include OU 4 (site 10), OU 5 (site 14), OU 12 (sites 44, 42 and the Old Golf Course) and an additional 16,527 acres which are not associated with an operable unit that have been evaluated as not posing a risk to human health and the environment (BRAC environmental condition of property 1, 2, 3 and 4).

The boundaries of the base are within the following coordinates: 30.3012 North Latitude, 81.9306 West Longitude; 30.3012 North Latitude, 81.9244 West Longitude; 30.3063 North Latitude, 81.8781 West Longitude; 30.2468 North Latitude, 81.8445 West Longitude; 30.1784 North Latitude, 81.8676 West Longitude; 30.1783 North Latitude, 81.8847 West Longitude. Within these coordinates are several areas which are not part of this partial deletion. The areas not included are Building 635, Building 605, Potential Source of Contamination (PSC) 51 (Current Golf Course), Operable Unit (OU) 1 (Sites 1—Old Landfill and Site 2—recent landfill), OU 2 (Site 5—Oil Disposal Area Northwest and Site 17—Oil and Sludge Disposal Pit Southwest), OU 3 (Site 7—Old Firefighter Training Area and Site 8—Boresite Range/Hazardous Waste Storage/Firefighting Area), OU 5 (Site 15—Blue 10 Ordnance Disposal Area, Site 49—Recent Skeet Range), OU 6 (Site 11—Golf Course Pesticide Disposal Area), OU 7, (Site 16—AIMD Seepage Pit/NDI Holding Tank), OU 8 (Site 3—Oil and Sludge Disposal Pit), OU 9 (Site 36—Control Tower TCE Plume, Site 37—Hangars 13 and 14 DCE Plume, Site 57—Building 824A/Day Tank 1 Area, and Site 58—Building 312 Area), OU 10 (Site 21—Golf Course Maintenance Area and Site 25—Former Transformer Storage Area), OU 11 (Site 45—Former Steam Generating Plant), and OU 12 (Site 32—Former DRMO Area). Maps identifying all areas are available for review in the partial deletion docket.

Operable Unit 4

Operable Unit 4 (site 10) occupies approximately 6.5 acres and operated as a rubble disposal area in the 1950's and 1960's. The Remedial Investigation was conducted in 1996, and did not identify any contamination which would pose a risk to human health or the environment. At OU 4 the primary source of contamination would be from demolition and rubble debris resulting from infrastructure demolition including runway and taxiway pavement. Historical records and physical debris did not indicate the presence of solvents, petroleum products, or other hazardous materials. In July 1997, a Record of Decision was signed for no further action. In June 1999, an Explanation of Significant Differences was approved which would address surface soil contamination with arsenic levels above the State of Florida's residential cleanup target levels. In October 1999, 335 tons of arsenic contaminated soil were removed from this site and taken to an approved landfill, confirmation samples were collected and the area was backfilled with clean fill. No further action is required at this site.

Operable Unit 5

Operable Unit 5 (site 14) was known as the Blue 5 Ordnance Disposal Area and consisted of 19 acres located in the Yellow Water Weapons Area. The site was used for ordnance disposal from 1967 through 1977. Disposal operations at this site consisted of detonation of excess ordnance such as fuses, 100-pound bombs, large munitions and explosive materials that normally do not burn. Typical explosives detonated included trinitrotoluene (TNT), trinitrophenylmethylnitramine and cyclotrimethylenetrinitramine. Ordnance detonation generates residual metals, primarily aluminum and lead oxides with minor amounts of unreacted or partially reacted organics. The Remedial Investigation (RI) was completed in October 1997. As part of the RI 102 soil samples were collected. Results showed that TNT is sporadically distributed at low concentrations that pose no explosive or biological hazards over the area of investigation. It was determined that the site did not pose a threat to human health or the environment. In July 1998, a Record of Decision (ROD) was signed for no further action.

Operable Unit 12

Operable Unit 12 consists of four sites, site 32, 42, 44 and the old golf course. Removal actions have been completed at all four sites, however, because contamination remains at site 32 above residential levels it is not part of this partial deletion proposal. Site 42 was known as the former boiler house/steam plant and general storehouse. The steam plant and storehouse were demolished about 40-years ago. Currently, only the foundations remain and the area is heavily vegetated. Surface and subsurface soil samples identified polycyclic aromatic hydrocarbons (PAHs), total recoverable petroleum hydrocarbons and metals (chromium, arsenic, and barium). An Action memorandum was prepared and approved in September 2000. Areas of soil where BaPEqs, TRPH, antimony, arsenic, barium and chromium concentrations were greater than the leachability soil concentration target level or three times that residential soil target cleanup level were excavated in March 2001. A total of 2,420.36 tons of soil was excavated, transported and disposed off-site. The site was backfilled with certified clean fill, graded and seeded.

Site 44 is referred to as the ditch from the Defense Reutilization and Marketing Organization (DRMO) to the active federally owned wastewater treatment building. The ditch received storm water runoff from the western edge of the east-west runways, the DRMO area and from the UNF 6 wash rack. Sampling identified lead, Polychlorinated biphenyls (PCBs), pesticides, PAHs, and inorganics (aluminum, cadmium, chromium, lead, mercury, and zinc) in excess of ecological screening criteria in the ditch as well as PCB's above residential risk levels in and around the ditch. No groundwater issues were identified. An action memorandum was prepared and approved in June 2000. Soil with PCB concentrations in excess of 1,500 μg/kg were excavated and disposed at a permitted solid waste disposal facility in September 2000. This resulted in a UCL concentration of PCBs before the Florida residential soil target level of 500 μg/kg. A total of 292 tons of soil was excavated. The site was then backfilled with certified clean fill, graded and seeded.

The old golf course operated from the early 1940's until 1946 when the current golf course was constructed. The area is now heavily wooded with a portion occupied by the former bachelor officer's quarters (BOQ). Surface and Subsurface soil sampling identified arsenic above Florida soil target cleanup levels. An action memorandum was prepared and approved in June 2000. Areas of soil where arsenic concentrations were greater than the residential cleanup levels established by statistical analyses have been excavated. During August 2000, 483-tons of contaminated soil was removed, transported and disposed off site. The site was backfilled with certified clean fill, graded and seeded.

Five-Year Review

The initial Five-Year Review for Naval Air Station Cecil Field was concurred upon by EPA in October 2000. The review focused on interim remedial actions that had been conducted at Operable Unit (OU) 2 (Sites 5 and 17), OU 7 (Site 16), OU 6 (Site 11). Discussions and recommendations were included for the long-term groundwater actions at these three operable units as well as operable units 1, 3, 4, 5, and 8 where the remedies had been in place for less than five years. The next five-year review is scheduled for October 2005.

Other Areas

Approximately 17,200 acres of Cecil Field have been evaluated for potential property transfer under the BRAC program. As was stated above, using the BRAC environmental condition of property classifications 16,496.14 acres have been determined to either be uncontaminated or BRAC category 1, areas where only a release or disposal of petroleum products have occurred or BRAC category 2; or areas where a release, disposal and/or migration of hazardous substances have occurred, but at concentrations that do not require a removal or remedial action or BRAC category 3; or areas where release, disposal, and/or migration of hazardous substances have occurred, and all remedial actions necessary to protect human health and the environment have taken place or BRAC category 4. No further action under CERCLA is required in these areas. Documentation for BRAC activities are available for public viewing at Building 907, 13357 Lake Newman Street, Cecil Commerce Center, Jacksonville, Florida 32252, Phone: 904-573-0336., which also houses the NPL Site Administrative Record.

V. Deletion Action

EPA, with the State of Florida concurrence, has determined that no responses are necessary at the 16,527 acres which comprised a major portion of the Cecil Field Naval Air Station, and no further CERCLA response is appropriate or necessary in order to provide protection of human health and the environment other than the ongoing inspection, maintenance and monitoring activities. Therefore, EPA is deleting these portions of the Site.

List of Subjects in 40 CFR Part 300

Environmental protection, Air pollution control, Chemicals, Hazardous substances, Hazardous waste, Intergovernmental relations, Penalties, Reporting and recordkeeping requirements, Superfund, Water pollution control, Water supply.

Dated: January 10, 2003.
James I. Palmer, Jr.,
Regional Administrator, Region 4.

Title 40, Chapter 1 of the Code of Federal Regulations is proposed to be amended as follows:

PART 300—[AMENDED]

1. The authority citation for part 300 continues to read as follows:

Authority: 42 U.S.C. 9601-9657; 33 U.S.C. 1321(c)(2); E.O. 12777, 56 FR 54757, 3 CFR, 1991 Comp.; p.351; E.O. 12580, 52 FR 2923, 3 CFR, 1987 Comp.; p.193.

Appendix B—[AMENDED]

2. Table 2 of appendix B to part 300 is amended by revising the entry for Cecil Field Naval Air Station to read as follows:

Appendix B to Part 300—National Priorities List

* * * * *

Table 2.—Federal Facilities Section
St | Site name | City/County | Notes (a)
* * * * * * *
FL | Cecil Field Naval Air Station | Jacksonville | P
* * * * * * *

(a) * * *

* * * * *

P = Sites within partial deletion(s).

[FR Doc. 03-1776 Filed 1-28-03; 8:45 am]

BILLING CODE 6560-50-P